DEPARTMENT OF COMMERCE

National Oceanic and Atmospheric Administration

50 CFR Part 660

[Docket No. 220629-0145]

RIN 0648-BK81

Magnuson-Stevens Act Provisions; Fisheries Off West Coast States; Pacific Coast Groundfish Fishery; Non-trawl Logbook

AGENCY: National Marine Fisheries Service (NMFS), National Oceanic and Atmospheric Administration (NOAA), Department of Commerce.

ACTION: Proposed rule.

SUMMARY: This proposed rule would create a federal requirement for certain vessels in the Pacific Coast Groundfish fishery target fishing for groundfish with non-trawl gear in federal waters off the coasts of California, Oregon, and Washington, to complete and submit a non-trawl logbook to NMFS via an electronic application. Specifically, this non-trawl logbook requirement would apply to vessels participating in the directed open access and limited entry fixed gear sectors, as well as those vessels that fish with non-trawl gear in the Shorebased Individual Fishing Quota Program. The intent of this requirement is to collect valuable fishery-dependent information in non-trawl sectors with partial observer coverage, which would help better inform management of these fisheries.

DATES: Comments must be received by August 4, 2022.

ADDRESSES: Submit your comments, identified by NOAA-NMFS-2022-0035, by the following method:

Electronic Submission: Submit all electronic public comments via the Federal e-Rulemaking Portal. Go to https://www.regulations.gov and enter NOAA-NMFS-2022-0035 in the Search box. Click on the “Comment” icon, complete the required fields, and enter or attach your comments.

Instructions: NMFS may not consider comments if they are sent by any other method, to any other individual, or received after the comment period ends. All comments received are a part of the public record and NMFS will post for public viewing on www.regulations.gov without change. All personal identifying information (e.g., name, address, etc.), confidential business information, or otherwise sensitive information submitted voluntarily by the sender is publicly accessible. NMFS will accept anonymous comments (enter “N/A” in the required fields if you wish to remain anonymous).

FOR FURTHER INFORMATION CONTACT: Lynn Massey, phone: 562-436-2462, or email: lynn.massey@noaa.gov.

SUPPLEMENTARY INFORMATION:

Background

The commercial non-tribal groundfish fisheries off the West Coast include vessels using a variety of gear types in permitted (limited entry) and non-permitted (open access (OA)) sectors. Within the limited entry sector, some permits have fixed gear endorsements (i.e., bottom longline and/or pot gear). Some of these fixed gear-endorsed permits also carry a sablefish endorsement, which allows the vessel registered to the permit to participate in the limited entry fixed gear (LEFG) sablefish primary fishery and limited entry trip limit fisheries. Other permits may have a trawl endorsement, which can be used with either trawl gear or with fixed gear in the Shorebased Individual Fishing Quota (IFQ) Program. These vessels are often referred to as “gear switchers.” The non-permitted, or OA fishery, is comprised of vessels catching and retaining groundfish using a variety of fishing strategies. Some participating vessels have the primary intent of catching groundfish (i.e., directed OA), while other vessels have the primary intent of catching a species other than groundfish, but in the process retain groundfish caught incidentally as an additional value for the fishing trip (i.e., incidental OA).

During the June 2008 Pacific Fishery Management Council (Council) meeting, for the 2009-2010 Groundfish Harvest Specifications and Management Measures action, the Council recommended that NMFS initiate rulemaking for a mandatory logbook requirement for the limited entry and OA fixed gear fishing fleets. Comparatively, the groundfish trawl fisheries have been subject to state logbook requirements since the late 1980s, and more recently, a federal logbook requirement was implemented for catcher vessels using trawl gear off California in the Pacific Coast Groundfish fishery (84 FR 32096; July 5, 2019). In the proposed rule for the 2009-2010 harvest specifications (73 FR 80516; December 31, 2008), NMFS determined that development and implementation of a federal logbook system for the limited entry and OA fixed gear fishing fleets would take more time than was available for that rulemaking, and stated it would be under consideration for implementation in the future (pp 80538).

Similar to the trawl logbook, a fixed gear logbook has broad applicability and utility for the management of the OA, LEFG, and Shorebased IFQ gear switching commercial groundfish fisheries. Data collected in a logbook for fixed gear vessels would contribute to stock assessments, inform managers about location-specific catch and discards on non-observed trips and vessels, support economic analysis, and provide information to quantify groundfish fishery effort to allow more precise estimation of bycatch of Endangered Species Act (ESA) listed species, such as seabirds and humpback whales. In addition, implementation of a logbook for fixed gear vessels is a term and condition implementing Reasonable and Prudent Measure 4 of the 2017 Biological Opinion regarding the effects of the continued operation of the Pacific Coast Groundfish Fishery on ESA listed seabirds (FWS O1EOFWOO-2017-F-03 16). The ESA Workgroup has recommended a fixed gear logbook numerous times (see the ESA Workgroup reports on the Council's website (pcouncil.org) for the June 2015, April 2017, June 2021 meetings). Finally, a logbook for the OA, LEFG, and Shorebased IFQ gear switching fisheries would provide vital area-specific catch information to support future actions under consideration by the Council, such as opening up areas of the non-trawl Rockfish Conservation Area (NT-RCA).

Considering that it has been several years since the Council's recommendation on this action and that aspects of the relevant fishery sectors have changed since then, NMFS requested additional guidance on the Council's intended scope for this action at the September 2021 meeting. First, NMFS asked the Council for clarification on whether it intended for the logbook requirement to apply to both the directed and incidental OA sectors, or only the directed OA sector. The reason for this request for clarification was to confirm whether the Council intended for the logbook to be submitted by non-groundfish fisheries that land groundfish incidentally under OA trip limits (e.g., the salmon troll fishery). Second, NMFS asked the Council to clarify whether it intended the logbook to apply to the “non-trawl” fleets as opposed to the “fixed gear” fleets; although the terms are sometimes used interchangeably and may include many of the same gear types (e.g., pot gear), they do not include all of the same gear types (e.g., troll gear is non-trawl gear, but is not fixed gear). In 2008, the Council used the term “fixed gear” in its recommendation. The reason for this clarification request is that the Council has recently expressed interest in collecting logbook information on non-trawl gears that do not meet the regulatory definition of fixed gear (see § 660.11), namely troll gear. In addition, non-trawl gear types that are not fixed gears are being contemplated by the Council for legal use inside the NT-RCA, and the Council has indicated that any vessel authorized to fish inside the NT-RCA should be required to fill out a logbook.

In response to NMFS' request for clarification, at its March 2022 meeting, the Council made a final recommendation on the logbook that clarified the following:

• The logbook requirement would apply to the more inclusive “non-trawl” groundfish fleets as opposed to the “fixed gear” groundfish fleets.

• Vessels using non-trawl gear in the following fishery sectors would be required to submit the federal logbook to NMFS:

○ Directed open access for groundfish (not incidental open access for groundfish)

○ LEFG Primary Sablefish

○ LEFG trip limit

○ Vessels using non-trawl gear in the Shorebased IFQ program (herein referred to as the “IFQ gear switching” fishery or sector)

The Council may consider expanding the logbook requirement for additional non-trawl fisheries retaining groundfish in the future. NMFS is moving forward with the development of a federal non-trawl logbook requirement in accordance with the above recommendation.

Non-Trawl Logbook Development

NMFS has contracted the Pacific States Marine Fisheries Commission (PSMFC) to develop an electronic logbook application. The PSMFC will house and manage the logbook data. NMFS intends the application to be available for download free of charge on smart phones, tablets, and laptop computers; however, initial rollout may be limited to a smart phone application, subject to timing constraints. If this proposed rule is finalized, NMFS would publish a Compliance Guide with all necessary download and operation instructions upon publication of the final rule. For a minimum of 1 year from the effective date of the final rule, NMFS would accept paper logbook forms to provide a grace period for adapting to the electronic application. NMFS will prescribe the paper logbook forms that may be submitted to meet this requirement. Depending on the development status of the electronic application, NMFS may extend the optional paper logbook provision beyond one year from the effective date of the final rule. NMFS will issue a public notice at least 90 calendar days prior to ending the optional provision to submit a paper logbook. Each non-trawl logbook paper form would represent a single fishing trip, and the data would be matched to a landing receipt (i.e., fish ticket) submitted to PSMFC by seafood first receivers (i.e., buyers). This matching step acts as a data corroboration process for landings, and allows the PSMFC to identify and correct any errors in the data. Paper logbook submission would be required within one month of a fishing trip. The PSMFC would mail logbook forms to the state fish and wildlife agencies, who would then assist in distributing logbook forms to their respective fishers.

NMFS and the PSMFC have begun consulting with industry representatives on the electronic logbook layout and design, and will continue soliciting industry feedback as the logbook develops. NMFS and the PSMFC intend to coordinate with end-users of the data, including the Council's Groundfish Management Team (GMT) and other State representatives, on the design of the electronic logbook.

Content and Use of the Non-Trawl Logbook

The non-trawl logbook would collect set-level information on catch, discards, fishing location, fishing depth, gear configuration, and sale. Most data would be required to be entered into the electronic logbook application while the vessel is fishing, with only the buyer information recorded upon landing. An electronic logbook entry would be required for each individual fishing trip. Submission of electronic logbook data in the application would be required within 24 hours of landing; data would be transmitted when the vessel returns to an area with internet access.

NMFS, the Council, the GMT, the Northwest Fishery Science Center, and the PSMFC would use the data obtained from the logbook application for analyses of catch locations and bycatch hotspots, spot verification of fish tickets, analyses on gear usage by area, stock assessments, and a variety of other applications. Additionally, federal groundfish regulations require vessels to make the logbook data available to fishery observers under the West Coast Groundfish Observer Program. The observers collect biological samples and pair these samples with logbook data describing vessel position, target, depth, and retained catch. These data are not always accessible from other sources such as equipment on the ship. Finally, the logbook data may also be used by the NOAA Office of Law Enforcement (OLE) and the U.S. Coast Guard in investigations.

Non-Trawl Federal Logbook Requirement

This proposed rule would create a federal logbook requirement for vessels participating in the directed OA, LEFG and IFQ gear switching fishery sectors. The directed OA sector includes those vessels that target fish for groundfish in federal waters. The LEFG sector includes the primary sablefish fishery and the LE trip limit fisheries. The IFQ gear switching sector includes those vessels that participate in the Shorebased IFQ Program with trawl gear, but also “gear switch” and occasionally fish with non-trawl gear pursuant to their IFQ limits. From 2016-2019, an average of 536, 188, and 18 vessels participated in the directed OA, LEFG, and IFQ gear switching fishery sectors, respectively. Therefore, NMFS anticipates this action will affect a total of approximately 742 vessels.

This proposed rule would also amend the regulations at § 660.13 to add new gear types or sectors that vessels can declare on their declaration reports (e.g., declaration codes) and revise some existing declaration codes with the primary purpose of ensuring those codes better align with the gear profiles as they would be described in the electronic non-trawl logbook application. Additionally, the revised declaration codes would allow NOAA's OLE to identify those vessels that are subject to the new non-trawl logbook requirement based on what gear type is declared.

This proposed rule is structured to minimize impacts on those vessels that are already subject to comparable logbook requirements. For example, those vessels that gear switch in the Shorebased IFQ Program and use electronic monitoring (EM) in lieu of an observer currently record discards on a paper logbook form (see § 660.604(s)). Those vessels would be required to transition to submit the electronic non-trawl logbook application instead of the paper logbook forms, with the exception of the firstyear(s), when they would be permitted to continue submitting the paper form as they adapt to the electronic application.

Under this proposed rule, vessels would be required to send the alternative paper logbook forms to the PSFMC, on behalf of NMFS, at: Pacific States Marine Fisheries Commission, 205 SE Spokane St., Suite #100, Portland, OR 97202.

Classification

Pursuant to section 304(b)(1)(A) of the Magnuson-Stevens Act, the NMFS Assistant Administrator has determined that this proposed rule is consistent with the FMP, other provisions of the Magnuson-Stevens Act, and other applicable law, subject to further consideration after public comment.

This proposed rule has been determined to be not significant for purposes of Executive Order 12866.

There are no relevant federal rules that may duplicate, overlap, or conflict with this action.

Certification Under the Regulatory Flexibility Act

The Chief Counsel for Regulation of the Department of Commerce certified to the Chief Counsel for Advocacy of the Small Business Administration that this proposed rule, if adopted, would not have a significant economic impact on a substantial number of small entities.

For purposes of the Regulatory Flexibility Act (5 U.S.C. 601 et seq.) (RFA) only, NMFS has established a small business size standard for businesses, including their affiliates, whose primary industry is commercial fishing (see 50 CFR 200.2). A business primarily engaged in commercial fishing is classified as a small business if it is independently owned and operated, is not dominant in its field of operation (including its affiliates), and has combined annual receipts not in excess of $11 million for all its affiliated operations worldwide. This standard applies to all businesses classified under North American Industry Classification System (NAICS) code 11411 for commercial fishing, including all businesses classified as commercial finfish fishing (NAICS 114111), commercial shellfish fishing (NAICS 114112), and other commercial marine fishing (NAICS 114119) businesses (50 CFR 200.2; 13 CFR 121.201).

This proposed rule would directly affect groundfish vessels fishing in the directed OA, LEFG, and IFQ gear switching fishery sectors, which would be required to collect information to complete and submit the non-trawl logbook. From 2016-2019, an average of 536, 188, and 18 vessels participated in the directed OA, LEFG, and IFQ gear switching fisheries, respectively. Therefore, NMFS anticipates this action will affect a total of approximately 742 vessels, which would all be classified as small businesses according to NMFS' small business standard under the RFA.

This proposed rule is not anticipated to have a significant economic impact on the affected entities. This rule is administrative in nature, as it establishes a new reporting requirement for these fishery sectors. The electronic logbook application will be available for download free of charge on smart phones, tablets, and laptops. NMFS has conducted outreach with members of the Groundfish Advisory Subpanel who represent the affected entities, and all have confirmed that most fishers in the affected sectors have at least one of these electronic devices. Even if, at initial implementation, the electronic logbook application is only available for download on a smart phone, those fishermen that do not own a smart phone would be permitted to submit a paper logbook form for two years. This would provide enough time for NMFS and the PSMFC to finalize the electronic logbook application for other devices, including tablets and laptops.

In addition, this proposed rule is not expected to place small entities at a significant competitive disadvantage to large entities. This action is administrative, and only creates a new reporting requirement for vessels fishing in the directed OA, LEFG, and IFQ gear switching fishery sectors. Vessels that are considered large entities in the Pacific Coast Groundfish fishery (e.g., mothership and catcher-processor vessels) are subject to their own separate reporting requirements (see § 660.113).

For these reasons, NMFS believes that this proposed rule would not have a significant economic impact on a substantial number of small entities. As a result, an initial regulatory flexibility analysis is not required and none has been prepared.

Information Collection Requirements

This proposed rule contains a new collection-of-information requirement subject to review and approval by OMB under the Paperwork Reduction Act (44 U.S.C. 3507(d)) (PRA). This rule adds a federal requirement to complete and submit data in the non-trawl electronic logbook application for fishing activities in the directed OA, LEFG, and IFQ gear switching fishery sectors. Public reporting burden for the federal non-trawl logbook requirement is estimated to average 30 minutes per logbook submission, including the time for reviewing instructions, searching existing data sources, gathering and maintaining the data needed, and completing and reviewing the collection of information. The average vessel took about 14 fishing trips per year between 2016-2019, which would result in about 7 additional hours of paperwork to comply with the new logbook requirement over the course of the year. Vessels pursuing a targeted non-trawl groundfish strategy would be most impacted by the proposed rule. NMFS estimates that a subset of about ten vessels of the 742 affected vessels pursue such a strategy and take between 100-180 trips per vessel per year; these entities would have an estimated additional burden of approximately 50-90 hours per vessel.

Public comment is sought regarding: whether this proposed collection of information is necessary for the proper performance of the functions of the agency, including whether the information shall have practical utility; the accuracy of the burden estimate; ways to enhance the quality, utility, and clarity of the information to be collected; and ways to minimize the burden of the collection of information, including through the use of automated collection techniques or other forms of information technology. Submit comments on these or any other aspects of the collection of information at www.reginfo.gov/public/do/PRAMain. Find the particular information collection by selecting “Currently under Review—Open for Public Comments” or by using the search function.

In addition, this rule revises the existing requirements for the collection of information 0648-0573 by adding and modifying declaration codes for the purpose of monitoring and enforcing the new logbook requirement. These new declaration codes are not anticipated to alter the number of respondents, anticipated responses, burden hours, or burden costs, as the affected vessels are already required to declare their fishing activities. The new declaration codes would allow NOAA's OLE to track those vessels that are subject to the logbook requirement based on what gear type is being used and the location of their fishing activity. Public reporting burden for submitting a declaration report is estimated to average 4 minutes per individual report, including the time for reviewing instructions, searching existing data sources, gathering and maintaining the data needed, and completing and reviewing the collection of information.

Public comment is sought regarding: whether this proposed collection of information is necessary for the proper performance of the functions of the agency, including whether the information shall have practical utility; the accuracy of the burden estimate; ways to enhance the quality, utility, and clarity of the information to be collected; and ways to minimize the burden of the collection of information, including through the use of automated collection techniques or other forms of information technology. Submit comments on these or any other aspects of the collection of information at www.reginfo.gov/public/do/PRAMain. Find the particular information collection by selecting “Currently under Review—Open for Public Comments” or by using the search function.

Notwithstanding any other provision of the law, no person is required to respond to, nor shall any person be subject to a penalty for failure to comply with, a collection of information subject to the requirements of the PRA, unless that collection of information displays a currently valid OMB Control Number.

List of Subjects in 50 CFR Part 660

Fisheries, Fishing, Reporting and recordkeeping requirements.

Dated: June 29, 2022.
Samuel D. Rauch, III,
Deputy Assistant Administrator for Regulatory Programs, National Marine Fisheries Service.

For the reasons set out in the preamble, 50 CFR part 660 is proposed to be amended as follows:

PART 660—FISHERIES OFF WEST COAST STATES

1. The authority citation for part 660 continues to read as follows:

Authority: 16 U.S.C. 1801 et seq., 16 U.S.C. 773 et seq., and 16 U.S.C. 7001 et seq.

2. In § 660.11, under the definition for “Open access fishery” add paragraphs (1) and (2) to read as follows:

§ 660.11 General definitions.

* * * * *

Open access fishery * * *

(1) For the purpose of the non-trawl logbook requirements at § 660.13, directed open access fishery means that a fishing vessel is target fishing for groundfish under the requirements of 50 CFR part 660, subpart F, is only declared into an open access groundfish gear type or sector as defined at 50 CFR 660.13(d)(4)(iv)(A), and has not declared into any other gear type or sector.

(2) [Reserved]

* * * * *

3. In § 660.12, revise paragraph (b)(3) to read as follows:

§ 660.12 General groundfish prohibitions.

* * * * *

(b) * * *

(3) Falsify or fail to prepare and/or file, retain or make available records of fishing activities as specified in § 660.13(a)(1) or (2).

* * * * *

4. In § 660.13:

a. Revise paragraph (a)(2), and add paragraph (a)(3).

b. Revise paragraphs (d)(4)(iv) introductory text, and (d)(4)(iv)(A)(1) through (31), and add (d)(4)(iv)(A)(32) through (37).

The revisions and additions read as follows:

§ 660.13 Recordkeeping and reporting.

* * * * *

(a) * * *

(2) Non-Trawl Logbook. The authorized representative of a commercial vessel participating in:

(i) The directed open access fishery, as defined at § 660.11;

(ii) The limited entry fixed gear trip limit fisheries subject to the trip limits in Table 2 North and South to Subpart E, and primary sablefish fisheries, as defined at § 660.211; and

(iii) Gear switching in the Shorebased IFQ Program, as defined at § 660.140(k), must keep and submit a complete and accurate record of fishing activities in the non-trawl electronic logbook application.

(3) The non-trawl electronic logbook application is a web-based portal used to send data from non-trawl fishing trips to the Pacific States Marine Fisheries Commission. The following requirements apply:

(i) The authorized representative of the vessel must complete an entry in the non-trawl electronic logbook application for all groundfish fishing trips, as defined under § 660.11. Required information for each fishing trip includes, but is not limited to, information on set-level data on catch, discards, fishing location, fishing depth, gear configuration, and sale.

(ii) The authorized representative of the vessel must complete an entry for each groundfish fishing trip in the non-trawl electronic logbook application with valid responses for all data fields in the application, except for information not yet ascertainable, prior to entering port, subject to the following requirements:

(A) Setting gear: Logbook entries for setting gear, including vessel information, gear specifications, set date/time/location, must be completed within 2 hours of setting gear.

(B) Retrieving gear: Logbook entries for retrieving gear, including date/time recovered and catch/discard information, must be completed within 2 hours of retrieving gear.

(C) The authorized representative of the vessel must complete and submit entries in the non-trawl electronic logbook application within 24 hours of the completion of offload.

(D) For a minimum of 1 year from the effective date of the final rule, vessels subject to this non-trawl logbook requirement are permitted to submit a paper logbook form in lieu of the requirement to fill out the non-trawl electronic logbook application. The West Coast Regional Administrator will prescribe the paper logbook forms required under this section. NMFS will issue a public notice at least 90 calendar days prior to ending the optional provision to submit a paper logbook. The authorized representative of the vessel must complete the non-trawl logbook form on all groundfish trips, subject to the same requirements as for the non-trawl electronic logbook application, listed above in § 660.13(a)(2)(i) through (ii). The authorized representative of the vessel must deliver the NMFS copy of the non-trawl logbook form by mail or in person to NMFS or its agent within 30 days of landing. The authorized representative of the vessel responsible for submitting the non-trawl logbook forms must maintain a copy of all submitted logbooks for a minimum of three years after the fishing activity ended.

* * * * *

(d) * * *

(4) * * *

(iv) Declaration reports will include: The vessel name and/or identification number, gear type, and monitoring type where applicable, (as defined in paragraph (d)(4)(iv)(A) of this section). Upon receipt of a declaration report, NMFS will provide a confirmation code or receipt to confirm that a valid declaration report was received for the vessel. Retention of the confirmation code or receipt to verify that a valid declaration report was filed and the declaration requirement was met is the responsibility of the vessel owner or operator. Vessels using nontrawl gear may declare more than one gear type with the exception of vessels participating in the Shorebased IFQ Program (i.e., gear switching), however, vessels using trawl gear may only declare one of the trawl gear types listed in paragraph (d)(4)(iv)(A) of this section on any trip and may not declare nontrawl gear on the same trip in which trawl gear is declared.

(A) * * *

(1) Limited entry fixed gear, not including shorebased IFQ (declaration code 10),

(2) Limited entry groundfish non-trawl, shorebased IFQ, observer (declaration code 11),

(3) Limited entry groundfish non-trawl, shorebased IFQ, electronic monitoring (declaration code 11),

(4) Limited entry midwater trawl, non-whiting shorebased IFQ, observer (declaration code 20),

(5) Limited entry midwater trawl, non-whiting shorebased IFQ, electronic monitoring (declaration code 20),

(6) Limited entry midwater trawl, Pacific whiting shorebased IFQ, observer (declaration code 21),

(7) Limited entry midwater trawl, Pacific whiting shorebased IFQ, electronic monitoring (declaration code 21)

(8) Limited entry midwater trawl, Pacific whiting catcher/processor sector (declaration code 22),

(9) Limited entry midwater trawl, Pacific whiting mothership sector (catcher vessel or mothership), observer (declaration code 23),

(10) Limited entry midwater trawl, Pacific whiting mothership sector (catcher vessel), electronic monitoring (declaration code 23),

(11) Limited entry bottom trawl, shorebased IFQ, not including demersal trawl or selective flatfish trawl (declaration code 30),

(12) Limited entry bottom trawl, shorebased IFQ, not including demersal trawl or selective flatfish trawl, electronic monitoring (declaration code 30),

(13) Limited entry demersal trawl, shorebased IFQ, observer (declaration code 31)

(14) Limited entry demersal trawl, shorebased IFQ, electronic monitoring (declaration code 31),

(15) Limited entry selective flatfish trawl, shorebased IFQ, observer (declaration code 32),

(16) Limited entry selective flatfish trawl, shorebased IFQ, electronic monitoring (declaration code 32),

(17) Non-groundfish trawl gear for pink shrimp (declaration code 41),

(18) Non-groundfish trawl gear for ridgeback prawn (declaration code 40),

(19) Non-groundfish trawl gear for California halibut (declaration code 42),

(20) Non-groundfish trawl gear for sea cucumber (declaration code 43),

(21) Open access bottom contact hook-and-line gear for groundfish (e.g., bottom longline, commercial vertical hook-and-line, dinglebar) (declaration code 33),

(22) Open access Pacific halibut longline gear (declaration code 62),

(23) Open access groundfish trap or pot gear (declaration code 34),

(24) Open access Dungeness crab trap or pot gear (declaration code 61),

(25) Open access prawn trap or pot gear (declaration code 60),

(26) Open access sheephead trap or pot gear (declaration code 65),

(27) Open access non-bottom contact hook and line gear for groundfish (e.g., troll, weighted jig gear, rod & reel gear) (declaration code 35),

(28) Open access non-bottom contact stationary vertical jig gear (declaration code 36)

(29) Open access non-bottom contact troll gear (declaration code 37),

(30) Open access HMS line gear (declaration code 66),

(31) Open access salmon troll gear (declaration code 63),

(32) Open access California Halibut line gear (declaration code 64),

(33) Open access Coastal Pelagic Species net gear (declaration code 67),

(34) Other, a gear that is not listed above (declaration code 69),

(35) Tribal trawl gear (declaration code 50),

(36) Open access California anchored gillnet gear (declaration 68), or

(37) Gear testing, Trawl Rationalization fishery (declaration code 70).

[FR Doc. 2022-14295 Filed 7-1-22; 8:45 am]

BILLING CODE 3510-22-P